DEPARTMENT OF COMMERCE

International Trade Administration

[A-538-802, A-570-003, C-535-001]

Final Results of Sunset Reviews and Revocation of Antidumping Duty Orders and Countervailing Duty Order on Cotton Shop Towels From Bangladesh, the People's Republic of China, and Pakistan

AGENCY: Import Administration, International Trade Administration, Department of Commerce.

SUMMARY: On January 3, 2005, the Department of Commerce (“the Department”) initiated sunset reviews of the antidumping duty orders on cotton shop towels from Bangladesh and the People's Republic of China (“PRC”), and the countervailing duty order on cotton shop towels from Pakistan. See Initiation of Five-Year (“Sunset”) Reviews, 70 FR 75 (January 3, 2005).

Because no domestic interested party responded to the sunset review notice of initiation by the applicable deadline, the Department is revoking the antidumping duty orders on cotton shop towels from Bangladesh and the PRC, and the countervailing duty order on cotton shop towels from Pakistan.

DATES: Effective Date: February 17, 2005.

FOR FURTHER INFORMATION CONTACT: Martha V. Douthit, Office of Policy, Import Administration, International Trade Administration, U.S. Department of Commerce, 14th Street and Constitution Avenue, NW., Washington, DC 20230; telephone: (202) 482-5050.

SUPPLEMENTARY INFORMATION:

Scope of the Orders

The merchandise subject to these orders is shop towels. Shop towels are absorbent industrial wiping cloths made from a loosely woven fabric. The fabric may be either 100-percent cotton or a blend of materials. Shop towels are currently classifiable under item numbers 6307.10.2005 and 6307.10.2015 of the Harmonized Tariff Schedule (HTS). Although HTS subheadings are provided for convenience and customs purposes, our written description of the scope of these proceeding remains dispositive.

Background

The Department published in the Federal Register the antidumping duty orders on cotton shop towels from Bangladesh and the PRC, and the countervailing duty order on cotton shop towels from Pakistan. See Antidumping Duty Order; Cotton Shop Towels From Bangladesh, 57 FR 9688 (March 20, 1992); Shop Towels of Cotton From the People's Republic of China Antidumping Duty Order; 48 FR 45277 (October 4, 1983); and Countervailing Duty Order; Shop Towels of Cotton From Pakistan, 49 FR 8974 (March 9, 1984). On February 17, 2000, pursuant to 19 CFR 351.218(f)(4), the Department published in the Federal Register its notice of continuation of the antidumping duty orders on cotton shop towels from Bangladesh and the PRC, and countervailing duty order on cotton shop towels from Pakistan, following the first sunset review. See Continuation of Antidumping Duty Orders and Countervailing Duty Order: Cotton Shop Towels from Bangladesh, the People's Republic of China, and Pakistan, 65 FR 8119 (February 17, 2000).

On January 3, 2005, the Department initiated a second sunset review of these orders pursuant to section 751(c) of the Tariff Act of 1930, as amended, (the “Act”), and 19 CFR part 351, in general. See Initiation of Five-Year (“Sunset”) Review, 70 FR 75 (January 3, 2005). As a courtesy to interested parties, the Department sent letters, via certified and registered mail, to each party listed on the Department's most current service list for this proceeding to inform them of the automatic initiation of a sunset review of these orders.

We received no response from the domestic industry by the deadline date. See 19 CFR 351.218(d)(1)(i). As a result, the Department determined that no domestic party intends to participate in the sunset review. On January 27, 2005, the Department notified the International Trade Commission (“ITC”) in writing that we intended to issue a final determination revoking the antidumping and countervailing duty order. See 19 CFR 351.218(d)(1)(iii)(B).

Determination To Revoke

Pursuant to section 751(c)(3)(A) of the Act and 19 CFR 351.218(d)(1)(iii)(B)(3), if no domestic interested parties respond to the notice of initiation, the Department shall issue a final determination, within 90 days after the initiation of the review, revoking the order. Because no domestic interested party filed a notice of intent to participate or a substantive response, the Department finds that no domestic interested party is participating in these reviews. Therefore, we are revoking the antidumping duty orders and countervailing duty order cotton shop towels from Bangladesh, the PRC, and Pakistan, effective February 17, 2005, the fifth anniversary of the date of the determination to continue the orders, consistent with 19 CFR 351.222(i)(2)(i) and section 751(c)(6)(A)(iii) of the Act.

Effective Date of Revocation

Pursuant to sections 751(c)(3)(A) and 751(c)(6)(A)(iii) of the Act, and 19 CFR 351.222(i)(2)(i), the Department will instruct U.S. Customs and Border Protection to terminate the suspension of liquidation of the merchandise subject to these orders entered, or withdrawn from warehouse, on or after February 17, 2005. Entries of subject merchandise prior to the effective date of revocation will continue to be subject to suspension of liquidation and antidumping and countervailing duty deposit requirements. The Department will complete any pending administrative reviews of these orders and will conduct administrative reviews of subject merchandise entered prior to the effective date of revocation in response to appropriately filed requests for review. These five-year (“sunset”) reviews and this notice are in accordance with sections 751(c) and 777(i)(1) of the Act.

Dated: April 4, 2005.
Joseph A. Spetrini,
Acting Assistant Secretary for Import Administration.

[FR Doc. E5-1653 Filed 4-8-05; 8:45 am]

BILLING CODE 3510-DS-P